OFFICE OF MANAGEMENT AND BUDGET

Office of Federal Procurement Policy

DEPARTMENT OF DEFENSE

GENERAL SERVICES ADMINISTRATION

NATIONAL AERONAUTICS AND SPACE ADMINISTRATION

48 CFR Ch. 1

Semiannual Regulatory Agenda

AGENCY: Office of Federal Procurement Policy (OFPP), Office of Management and Budget; Department of Defense (DoD); General Services Administration (GSA); and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review, as reaffirmed and amended in Executive Order 13563, “Improving Regulation and Regulatory Review,” and Executive Order 14192, Unleashing Prosperity Through Deregulation.”

This agenda is being published to allow interested people an opportunity to participate in the rulemaking process. Additionally, members of the public can track the progress of any open and pending FAR rule via the “Open FAR Cases” report, which is publicly available at https://www.acq.osd.mil/dpap/dars/far_case_status.html.

The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking website at https://www.regulations.gov.

FOR FURTHER INFORMATION CONTACT: William Clark, Director, Office of Government-wide Acquisition Policy, 1800 F Street NW, 2nd Floor, Washington, DC 20405-0001, 202-219-1813 or by email at William.clark@gsa.gov.

SUPPLEMENTARY INFORMATION: OFPP, DoD, GSA, and NASA, under their several statutory authorities, jointly issue and maintain the FAR through periodic issuance of changes published in the Federal Register and produced electronically as Federal Acquisition Circulars (FACs).

The electronic version of the FAR, including changes, can be accessed on the FAR website at https://www.acquisition.gov/far.

William F. Clark,
Director, Office of Government-wide Acquisition Policy, Office of Acquisition Policy, Office of Government-wide Policy.

DOD/GSA/NASA (FAR)—Proposed Rule Stage
Sequence No. | Title | Regulation Identifier No.
183 | Federal Acquisition Regulation (FAR); FAR Case 2023-002, Supply Chain Software Security | 9000-AO49

DOD/GSA/NASA (FAR)—Final Rule Stage
Sequence No. | Title | Regulation Identifier No.
184 | Federal Acquisition Regulation (FAR); FAR Case 2017-016, Controlled Unclassified Information (CUI) | 9000-AN56
185 | Federal Acquisition Regulation (FAR); FAR Case 2018-017, Prohibition on Certain Telecommunications and Video Surveillance Services or Equipment | 9000-AN83
186 | Federal Acquisition Regulation (FAR); FAR Case 2019-009, Prohibition on Contracting With Entities Using Certain Telecommunications and Video Surveillance Services or Equipment | 9000-AN92
187 | Federal Acquisition Regulation (FAR); FAR Case 2020-011, Implementation of Federal Acquisition Supply Chain Security Act (FASCSA) Orders | 9000-AO13
188 | Federal Acquisition Regulation (FAR); FAR Case 2021-017, Cyber Threat and Incident Reporting and Information Sharing | 9000-AO34
189 | Federal Acquisition Regulation (FAR); FAR Case 2023-006, Preventing Organizational Conflicts of Interest in Federal Acquisition | 9000-AO54

DOD/GSA/NASA (FAR)—Completed Actions
Sequence No. | Title | Regulation Identifier No.
190 | Federal Acquisition Regulation (FAR); FAR Case 2021-015, Disclosure of Greenhouse Gas Emissions and Climate-Related Financial Risk | 9000-AO32
191 | Federal Acquisition Regulation (FAR); FAR Case 2023-021, Pay Equity and Transparency in Federal Contracting | 9000-AO69

Department of Defense/ General Services Administration/National Aeronautics and Space Administration (FAR) | Proposed Rule Stage

183. FEDERAL ACQUISITION REGULATION (FAR); FAR CASE 2023-002, SUPPLY CHAIN SOFTWARE SECURITY [9000-AO49]

Legal Authority: 40 U.S.C. 121(c); 10 U.S.C. ch. 4; 10 U.S.C. ch. 137 legacy provisions; 10 U.S.C. 3016; 51 U.S.C. 20113

Abstract: This rule will require Federal agencies to only use software that complies with secure software development practices. Software producers will be required to comply and attest to complying with certain secure software development requirements by completing a common form. This rule is being issued in accordance with section 4(n) and 4(k) of the Executive Order 14028 titled “Improving the Nation's Cybersecurity” and Office of Management and Budget Memorandums 22-18 and 23-16.

Timetable:

Action | Date | FR Cite
NPRM | 06/00/26
NPRM Comment Period End | 08/00/26

Regulatory Flexibility Analysis Required: Yes

Agency Contact: FAR Policy, DOD/GSA/NASA (FAR), 1800 F Street NW, Washington, DC 20405

Phone: 202 969-4075

Email: farpolicy@gsa.gov

RIN: 9000-AO49

Department of Defense/ General Services Administration/National Aeronautics and Space Administration (FAR) | Final Rule Stage

184. FEDERAL ACQUISITION REGULATION (FAR); FAR CASE 2017-016, CONTROLLED UNCLASSIFIED INFORMATION (CUI) [9000-AN56]

Legal Authority: 40 U.S.C. 121(c); 10 U.S.C. ch. 4; 10 U.S.C. ch. 137 legacy provisions; 10 U.S.C. 3016; 51 U.S.C. 20113; 41 U.S.C. 1121(b)

Abstract: This rule will apply the controlled unclassified information (CUI) program requirements in Federal contracts in a uniform manner to protect CUI. This rule is one element of a larger strategy to improve the Government's efforts to identify, deter, protect against, detect, and respond to increasing sophisticated threat actions targeting Federal contractors. This rule is being issued in accordance with the National Archives and Records Administration (NARA) regulations implementing the CUI program per Executive Order 13556 issued November 4, 2010, as implemented in NARA's implementing regulations. The FAR Council received public comments on the proposed rule published in January 2025, which are being considered in development of the final rule.

Timetable:

Action | Date | FR Cite
NPRM | 01/15/25 | 90 FR 4278
NPRM Comment Period End | 03/17/25 |
Final Rule | 12/00/25 |

Regulatory Flexibility Analysis Required: Yes

Agency Contact: FAR Policy, DOD/GSA/NASA (FAR), 1800 F Street NW, Washington, DC 20405

Phone: 202 969-4075

Email: farpolicy@gsa.gov

RIN: 9000-AN56

185. FEDERAL ACQUISITION REGULATION (FAR); FAR CASE 2018-017, PROHIBITION ON CERTAIN TELECOMMUNICATIONS AND VIDEO SURVEILLANCE SERVICES OR EQUIPMENT [9000-AN83]

Legal Authority: 40 U.S.C. 121(c); 10 U.S.C. ch. 4; 10 U.S.C. ch. 137 legacy provisions; 10 U.S.C. 3016; 51 U.S.C. 20113; 41 U.S.C. 1121(b)

Abstract: This rule will finalize an interim rule that prohibits the Government from procuring covered telecommunications equipment and services from Huawei Technologies Company, ZTE Corporation, Hytera Communications Corporation, Hangzhou Technology Company, or Dahua Technology Company, to include any subsidiaries or affiliates. The FAR provisions require that an offeror represent at an entity level in SAM, and if applicable on an offer-by-offer basis, if the offeror will or will not provide any covered telecommunications equipment or services to the Government. If an offeror responds in an offer that it will provide covered telecommunications, the offeror will need to provide additional disclosures. This FAR rule protects U.S. networks against cyber activities conducted through Chinese Government-supported telecommunications equipment and services. This rule is being issued in accordance with section 889 (a)(1)(A) of the National Defense Authorization Act for Fiscal Year 2019. Paragraph (a)(1)(B) of section 889 is being implemented separately through FAR Case 2019-009. The FAR Council received public comments in response to the interim rules published in August and December of 2019, which are being considered in the development of the final rule.

Timetable:

Action | Date | FR Cite
Interim Final Rule | 08/13/19 | 84 FR 40216
Interim Final Rule Comment Period End | 10/15/19
Interim Final Rule | 12/13/19 | 84 FR 68314
Interim Final Rule Effective | 12/13/19
Interim Final Rule Comment Period End | 02/11/20
Final Rule | 05/00/26

Regulatory Flexibility Analysis Required: Yes

Agency Contact: FAR Policy, DOD/GSA/NASA (FAR), 1800 F Street NW, Washington, DC 20405

Phone: 202 969-4075

Email: farpolicy@gsa.gov

RIN: 9000-AN83

186. FEDERAL ACQUISITION REGULATION (FAR); FAR CASE 2019-009, PROHIBITION ON CONTRACTING WITH ENTITIES USING CERTAIN TELECOMMUNICATIONS AND VIDEO SURVEILLANCE SERVICES OR EQUIPMENT [9000-AN92]

Legal Authority: 40 U.S.C. 121(c); 10 U.S.C. ch. 4; 10 U.S.C. ch. 137 legacy provisions; 10 U.S.C. 3016; 51 U.S.C. 20113; 41 U.S.C. 1121(b)

Abstract: This rule will finalize an interim rule that prohibits the Government from entering into a contract or extending or renewing a contract with an entity that uses any equipment, system, or service that uses covered telecommunications equipment and services from Huawei Technologies Company, ZTE Corporation, Hytera Communications Corporation, Hangzhou Technology Company, or Dahua Technology Company, to include any subsidiaries or affiliates. This FAR rule protects U.S. networks against cyber activities conducted through Chinese Government-supported telecommunications equipment and services. This rule is being issued in accordance with paragraph (a)(1)(B) of section 889 of the National Defense Authorization Act for Fiscal Year 2019. Paragraph (a)(1)(A) of section 889 is being implemented separately through FAR Case 2018-017. The FAR Council received public comments in response to the interim rules published in July and August of 2020, which are being considered in the development of the final rule.

Timetable:

Action | Date | FR Cite
Interim Final Rule | 07/14/20 | 85 FR 42665
Interim Final Rule Effective | 08/13/20
Interim Final Rule | 08/27/20 | 85 FR 53126
Interim Final Rule Comment Period End | 09/14/20
Interim Final Rule Comment Period End | 10/26/20
Interim Final Rule Effective | 10/26/20
Final Rule | 05/00/26

Regulatory Flexibility Analysis Required: Yes

Agency Contact: FAR Policy, DOD/GSA/NASA (FAR), 1800 F Street NW, Washington, DC 20405

Phone: 202 969-4075

Email: farpolicy@gsa.gov

RIN: 9000-AN92

187. FEDERAL ACQUISITION REGULATION (FAR); FAR CASE 2020-011, IMPLEMENTATION OF FEDERAL ACQUISITION SUPPLY CHAIN SECURITY ACT (FASCSA) ORDERS [9000-AO13]

Legal Authority: 40 U.S.C. 121(c); 10 U.S.C. ch. 4; 10 U.S.C. ch. 137 legacy provisions; 10 U.S.C. 3016; 51 U.S.C. 20113; 41 U.S.C. 1121(b)

Abstract: This rule will protect national security by excluding or removing certain covered products, services, or sources from the Federal supply chain through the issuance of exclusion and removal orders. This rule is being issued pursuant to section 202 of the Strengthening and Enhancing Cyber-capabilities by Utilizing Risk Exposure (SECURE) Technology Act and the Federal Acquisition Security Council (FASC) rule published on August 26, 2021. The FAR Council received public comments on the interim rule published in October of 2023, which are being considered in development of the final rule.

Timetable:

Action | Date | FR Cite
Interim Final Rule | 10/05/23 | 88 FR 69503
Interim Final Rule Comment Period End | 12/04/23
Interim Final Rule Effective | 12/04/23
Final Rule | 04/00/26

Regulatory Flexibility Analysis Required: Yes

Agency Contact: FAR Policy, DOD/GSA/NASA (FAR), 1800 F Street NW, Washington, DC 20405

Phone: 202 969-4075

Email: farpolicy@gsa.gov

RIN: 9000-AO13

188. FEDERAL ACQUISITION REGULATION (FAR); FAR CASE 2021-017, CYBER THREAT AND INCIDENT REPORTING AND INFORMATION SHARING [9000-AO34]

Legal Authority: 40 U.S.C. 121(c); 10 U.S.C. ch. 4; 10 U.S.C. ch. 137 legacy provisions; 10 U.S.C. 3016; 51 U.S.C. 20113

Abstract: This rule will authorize agencies to increase the sharing of information about cyber threats and incident information between the Government and certain providers. In addition, this rule will require certain contractors to report cyber incidents to the Federal Government to facilitate effective cyber incident response and remediation and require offerors to represent that they have submitted all security incident reports in a current, accurate, and complete manner. This rule is being issued pursuant to recommendations from the Office of Management and Budget and the Department of Homeland Security in accordance with sections 2(b), 2(c), 2(g)(i), and 8(b), of the Executive Order 14028 titled “Improving the Nation's Cybersecurity.”

Timetable:

Action | Date | FR Cite
NPRM | 10/03/23 | 88 FR 68055
NPRM Comment Period Extended | 11/01/23 | 88 FR 74970
NPRM Comment Period End | 12/04/23
NPRM Comment Period Extended End | 02/02/24
Final Rule | 02/00/26

Regulatory Flexibility Analysis Required: Yes

Agency Contact: FAR Policy, DOD/GSA/NASA (FAR), 1800 F Street NW, Washington, DC 20405

Phone: 202 969-4075

Email: farpolicy@gsa.gov

RIN: 9000-AO34

189. FEDERAL ACQUISITION REGULATION (FAR); FAR CASE 2023-006, PREVENTING ORGANIZATIONAL CONFLICTS OF INTEREST IN FEDERAL ACQUISITION [9000-AO54]

Legal Authority: 40 U.S.C. 121(c); 10 U.S.C. ch. 4; 10 U.S.C. ch. 137 legacy provisions; 10 U.S.C. 3016; 51 U.S.C. 20113; 41 U.S.C. 1121(b)

Abstract: This rule will provide and update definitions, guidance, and examples related to organizational conflicts of interest (OCI), including the creation of solicitation provisions and contract clauses to avoid or mitigate OCI, that require contractors to disclose information relevant to potential OCI and limit future contracting. The rule will also permit contracting officers to take into consideration professional standards and procedures to prevent OCI to which an offeror or contractor is subject. This rule is being issued in accordance with the Preventing Organizational Conflicts of Interest in Federal Acquisition Act. The FAR Council received public comments on the proposed rule published in January 2025, which are being considered in development of the final rule.

Timetable:

Action | Date | FR Cite
NPRM | 01/15/25 | 90 FR 4376
NPRM Comment Period End | 03/17/25
Final Rule | 12/00/25

Regulatory Flexibility Analysis Required: Yes

Agency Contact: FAR Policy, DOD/GSA/NASA (FAR), 1800 F Street NW, Washington, DC 20405

Phone: 202 969-4075

Email: farpolicy@gsa.gov

RIN: 9000-AO54

Department of Defense/ General Services Administration/National Aeronautics and Space Administration (FAR) | Completed Actions

190. FEDERAL ACQUISITION REGULATION (FAR); FAR CASE 2021-015, DISCLOSURE OF GREENHOUSE GAS EMISSIONS AND CLIMATE-RELATED FINANCIAL RISK [9000-AO32]

Legal Authority: 40 U.S.C. 121(c); 10 U.S.C. ch. 4; 10 U.S.C. ch. 137 legacy provisions; 10 U.S.C. 3016; 51 U.S.C. 20113

Abstract: DoD, GSA, and NASA are withdrawing the proposed rule to amend the Federal Acquisition Regulation (FAR) titled: Disclosure of Greenhouse Gas Emissions and Climate-Related Financial Risk. Executive Order 14030, directed the Federal Acquisition Regulatory Council to consider amending the Federal Acquisition Regulation (FAR) to require major Federal suppliers to publicly disclose greenhouse gas emissions and climate-related financial risk and to set science-based reduction targets. The agencies lack sufficient time during the Biden-Harris Administration, however, to finalize the proposal, particularly given the large volume of public comments and the policy issues they raised. The agencies' overall analysis of public comments indicates evolving practices and use of standards in industry, and since the publication of the proposed rule, differing domestic and international regulations covering greenhouse gas disclosures have been created. The FAR Council will continue to monitor recommendations from stakeholders on industry practice, both voluntary and under other requirements, to inform any future efforts in anticipation of continued movement towards more uniform use of standards. Accordingly, the proposed rule is withdrawn and FAR Case 2021-015 is closed.

Completed:

Reason | Date | FR Cite
Withdrawn | 01/13/25 | 90 FR 2663

Regulatory Flexibility Analysis Required: Yes

Agency Contact: FAR Policy

Phone: 202 969-4075

Email: farpolicy@gsa.gov

RIN: 9000-AO32

191. FEDERAL ACQUISITION REGULATION (FAR); FAR CASE 2023-021, PAY EQUITY AND TRANSPARENCY IN FEDERAL CONTRACTING [9000-AO69]

Legal Authority: 40 U.S.C. 121(c); 10 U.S.C. ch. 4; 10 U.S.C. ch. 137 legacy provisions; 10 U.S.C. 3016; 51 U.S.C. 20113

Abstract: DoD, GSA, and NASA are withdrawing the proposed rule to amend the FAR titled: Pay Equity and Transparency in Federal Contracting. In light of the limited time remaining in the current Administration, OFPP, DoD, GSA, and NASA have decided to withdraw the proposed policy and rule and focus their attention on other priorities, including directives in recent National Defense Authorization Acts. This will also help ensure that the agencies can benefit from the latest information on this topic if they return to it in the future. Accordingly, for these independently sufficient reasons, the proposed policy and rule published on January 30, 2024, at 89 FR 5843, are withdrawn and FAR Case 2023-021 is closed.

Completed:

Reason | Date | FR Cite
Withdrawn | 01/08/25 | 90 FR 1404

Regulatory Flexibility Analysis Required: Yes

Agency Contact: FAR Policy

Phone: 202 969-4075

Email: farpolicy@gsa.gov

RIN: 9000-AO69

[FR Doc. 2025-18316 Filed 9-19-25; 8:45 am]

BILLING CODE 6820-EP-P